DEPARTMENT OF DEFENSE

GENERAL SERVICES ADMINISTRATION

NATIONAL AERONAUTICS AND SPACE ADMINISTRATION

48 CFR Chapter 1

[Docket No. FAR 2019-0002, Sequence No. 8]

Federal Acquisition Regulation; Federal Acquisition Circular 2020-03; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2020-03, which amends the Federal Acquisition Regulation (FAR). An asterisk (*) next to a rule indicates that a regulatory flexibility analysis has been prepared. Interested parties may obtain further information regarding this rule by referring to FAC 2020-03, which precedes this document. These documents are also available via the internet at http://www.regulations.gov.

DATES: December 13, 2019.

FOR FURTHER INFORMATION CONTACT: Farpolicy@gsa.gov or call 202-969-4075. Please cite FAC 2020-03, FAR case 2018-017.

Rule Listed in FAC 2020-03
Subject | FAR case | Analyst
* Prohibition on Contracting for Certain Telecommunications and Video Surveillance Services or Equipment | 2018-017 | Francis.

SUPPLEMENTARY INFORMATION: A summary for the FAR rule follows. For the actual revisions and/or amendments made by this FAR Case, refer to the specific subject set forth in the document following this item summary. FAC 2020-03 amends the FAR as follows:

Prohibition on Contracting for Certain Telecommunications and Video Surveillance Services or Equipment (FAR Case 2018-017)

This second interim rule amends the Federal Acquisition Regulation to implement section 889(a)(1)(A) of the John S. McCain National Defense Authorization Act (NDAA) for Fiscal Year (FY) 2019 (Pub. L. 115-232). The first interim rule was published August 13, 2019.

This rule reduces the information collection burden imposed on the public by making updates to the System for Award Management (SAM) to allow offerors to represent annually whether they offer to the Government equipment, systems, or services that include covered telecommunications equipment or services. The burden to the public is reduced by allowing an offeror that responds “does not” in the new annual representation at 52.204-26, Covered Telecommunications Equipment or Services—Representation, or in paragraph (v) of 52.212-3, Offeror Representations and Certifications—Commercial Items, to skip the offer-by-offer representation within the provision at 52.204-24, Representation Regarding Certain Telecommunications and Video Surveillance Services or Equipment.

The provision at 52.204-26 requires that offerors review SAM prior to completing their required representations. The Government will add to SAM the entities that provide equipment or services listed in the definition of “covered telecommunications equipment or services”, with an appropriate notation to identify that the prohibition is limited to certain products and services—the entity itself is not excluded.

Offerors shall consult SAM to validate whether the products they are offering are from an entity covered under the definition of “covered telecommunications equipment or services”, including any known subsidiaries or affiliates.

This rule applies to all acquisitions, including acquisitions at or below the simplified acquisition threshold and to acquisitions of commercial items, including commercially available off-the-shelf items. It may have a significant economic impact on a substantial number of small entities.

William F. Clark,
Director, Office of Government-wide Acquisition Policy, Office of Acquisition Policy, Office of Government-wide Policy.

[FR Doc. 2019-26580 Filed 12-12-19; 8:45 am]

BILLING CODE 6820-EP-P